DEPARTMENT OF HEALTH AND HUMAN SERVICES

Health Resources and Services Administration

Agency Information Collection Activities: Submission to OMB for Review and Approval; Public Comment Request; HRSA Grantee Satisfaction Survey

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than March 11, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: HRSA Grantee Satisfaction Survey:

OMB No. 0906-0006—Revision.

Abstract: HRSA plans to survey HRSA grant recipients to better understand their opinions about HRSA's grants processes and to improve the way HRSA conducts business with them. This survey will focus on grantee customer satisfaction areas related to the grant life cycle, grantee relationships with HRSA staff (e.g., Project Officers, Grants Management Officers), technical assistance received from HRSA Bureaus and Offices, availability of grant resources, and grantee access to guidance and instructional documents, etc. The seven grants management areas, which are directly related to the grants life cycle, are: Customer Service/Cooperation; Policies and Procedures; Pre-Award Phase; Award Phase; Reporting/Post-Award Administration; Technical Assistance; and Priorities for Improvement. Receiving this information from external customers will provide HRSA with a repository of information that will be incorporated into strategic efforts to improve grants management services and customer service.

HRSA revised the planned survey to reflect a change in the sampling methodology. In past survey administration cycles, HRSA sent a single survey to each organization and asked them to complete the survey for the award they had received from HRSA for the longest time period. This past approach did not allow for a range of program-specific feedback from HRSA grantees. In this survey administration cycle, HRSA will send the survey to each individual grant project director and ask them to complete the survey for a specific award. This new approach will enable HRSA to obtain more granular and actionable information regarding the full range of grant awards received by HRSA awardees.

Compared to the 60-day Federal Register notice, HRSA anticipates the number of potential survey respondents will increase from 3,690 to 7,813 due to the change in the sampling methodology. HRSA also anticipates an increase in the burden hours compared to the 60-day Federal Register notice, based on a reassessment of the time completion of the survey conducted during a pre-test. The adjusted average of completing the survey is 0.34 hours per response.

A 60-day notice for this information collection was published in the Federal Register on March 10, 2023, Vol. 88, No. 47; pp. 15053. There were no public comments.

Need and Proposed Use of the Information: The HRSA Grantee Satisfaction Survey will provide meaningful and relevant results to agency decision-makers about various customer satisfaction domains (e.g., efficiency, timeliness, usefulness, responsiveness, quality of and overall satisfaction with HRSA project officers, products and services). The information collected will assist HRSA in its efforts to gauge, understand and respond to the needs and concerns of its customers, especially as they relate to the aforementioned areas. The survey results will provide HRSA with concrete indicators regarding the best areas in which to dedicate resources to improve customer service. HRSA will use this information to support agency-wide continuous quality improvement efforts. HRSA will use survey results to improve the efficiency, quality, and timeliness of its grants business processes, as well as to strengthen its partnership with external customers.

Likely Respondents: Individuals who are identified as the project director for a current HRSA grant award.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
HRSA Grantee Satisfaction Survey | 7,813 | 0.32 | 2,500 | 0.34 | 850
Total | 7,813 |  | 2,500 |  | 850
* HRSA will send the survey to 7,813 potential respondents. Based on HRSA Grantee Satisfaction Surveys administered in previous years, HRSA estimates a 32 percent response rate.

Maria G. Button,
Director, Executive Secretariat.

[FR Doc. 2024-02730 Filed 2-8-24; 8:45 am]

BILLING CODE 4165-15-P